ENVIRONMENTAL PROTECTION AGENCY

40 CFR Part 63

[EPA-RO4-OAR-2008-0904; FRL-8893-7]

Amendment to Requirements for Providing Information on the Delegation of the Administrator's Authorities and Responsibilities for Certain States

AGENCY: Environmental Protection Agency (EPA).

ACTION: Direct final rule.

SUMMARY: Pursuant to section 112(l) of the Clean Air Act, States with approved programs may take delegation of the Administrator's authorities and responsibilities to implement and enforce the emission standards and other requirements for hazardous air pollutants subject to this section. The delegation status of each State is published in the rules implementing section 112(l). EPA is taking this action to accomplish the following: correct a sequential numbering error in regulations that failed to reserve space for the alphabetical listing of the State of Florida; reserve space for the State of Florida; and, add delegation information for the States of Alabama, Florida, Georgia, Kentucky, Mississippi, North Carolina, and South Carolina.

DATES: This direct final rule is effective July 13, 2009 without further notice, unless EPA receives adverse comment by June 12, 2009. If adverse comment is received, EPA will publish a timely withdrawal of the direct final rule in the Federal Register and inform the public that the rule will not take effect.

ADDRESSES: Submit your comments, identified by Docket ID No. EPA-RO4-OAR-2008-0904 by one of the following methods:

1. www.regulations.gov: Follow the on-line instructions for submitting comments.

2. E-mail: page.lee@epa.gov.

3. Fax: 404-562-9095

4. Mail: “EPA-R04-OAR-2008-0904”, Air Toxics Assessment and Implementation Section, Air Toxics and Monitoring Branch, Air Pesticides and Toxics Management Division, U.S. Environmental Protection Agency, Region 4, 61 Forsyth Street, SW., Atlanta, Georgia 30303-8960.

5. Hand Delivery or Courier: Lee Page, Air Toxics and Monitoring Branch, U.S. Environmental Protection Agency, Region 4, 61 Forsyth Street, SW., Atlanta, Georgia 30303-8960. Such deliveries are only accepted during the Regional Office's normal hours of operation. The Regional Office's official hours of business are Monday through Friday, 8:30 am to 4:30 pm, excluding federal holidays.

Instructions: Direct your comments to Docket ID No. EPA-RO4-OAR-2008-0904. EPA's policy is that all comments received will be included in the public docket without change and may be made available online at www.regulations.gov, including any personal information provided, unless the comment includes information claimed to be Confidential Business Information (CBI) or other information whose disclosure is restricted by statute. Do not submit through www.regulations.gov or e-mail, information that you consider to be CBI or otherwise protected. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Air Toxics Assessment and Implementation Section, Air Toxics and Monitoring Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 am to 4:30 pm, excluding federal holidays.

FOR FURTHER INFORMATION CONTACT: Lee Page, Air Toxics Assessment and Implementation Section, Air Toxics and Monitoring Branch, Air, Pesticides and Toxics Management Division, U.S. Environmental Protection Agency Region 4, 61 Forsyth Street, SW., Atlanta Georgia 30303-8960. The telephone number is (404) 562-9131. Mr. Page can also be reached via electronic mail at page.lee@epa.gov.

SUPPLEMENTARY INFORMATION:

I. Background

Section 112(l) of the Clean Air Act (CAA) provides that each State may develop and submit to EPA for approval a program for the implementation and enforcement of emission standards and other requirements for hazardous air pollutants. Consistent with Section 112(l), EPA has promulgated regulations, at 40 CFR 63.90-63.99, that establish procedures for the approval of such State programs, including procedures for any partial or complete delegation of EPA's authority. The delegation status of each State is listed in 40 CFR 63.99.

II. Discussion

All eight Region 4 States (Alabama, Florida, Georgia, Kentucky, Mississippi, North Carolina, South Carolina, and Tennessee) have approved programs under section 112(l) of the CAA for taking delegation of Part 63 regulations. Section 112(l) program approvals were components of each State's Title V permitting program approval and can be found in the following Federal Registers: October 29, 2001 for Alabama; October 1, 2001, for Florida; June 8, 2000, for Georgia; October 31, 2001, for Kentucky; December 28, 1994, for Mississippi; August 31, 2001, for North Carolina; June 26, 1995, for South Carolina; and March 20, 2001, for Tennessee.

The approved Part 63 delegation mechanism for the States of Alabama, Florida, Georgia, Kentucky, and Mississippi is a process commonly described as “adopt by reference” in which formal delegation of federal rules occurs when the State rulemaking process to adopt a federal rule by reference is complete. The approved Part 63 delegation mechanism for the States of North Carolina, South Carolina and Tennessee is a process commonly described as “automatic delegation” in which formal delegation of federal rules occurs without the need for completing specific State rulemaking actions for taking delegation and is automatically completed on the promulgation date of each Part 63 regulation.

The purpose of today's action is to identify the specific Part 63 delegations that have been previously completed for seven States: Alabama, Florida, Georgia, Kentucky, Mississippi, North Carolina and South Carolina. In addition, corrections are being made to the sequential numbering in order to maintain the list of State delegation information in alphabetical order and to provide space for delegation information on the State of Florida.

III. Final Action

This rule amends 40 CFR 63.99 to add CAA Section 112(l) delegation information for the States of Alabama, Florida, Georgia, Kentucky, Mississippi, North Carolina, and South Carolina. This action also corrects sequential numbering in 40 CFR 63.99. EPA is publishing this rule without prior proposal because the Agency views this as a noncontroversial action and anticipates no adverse comments. However, in the proposed rules section of this Federal Register publication, EPA is publishing a separate document that will serve as the proposal for this rule should adverse comments be filed. This rule will be effective July 13, 2009 without further notice unless the Agency receives adverse comments by June 12, 2009.

If the EPA receives such comments, then EPA will publish a document withdrawing the direct final rule and informing the public that the rule will not take effect. All public comments received will then be addressed in a subsequent final rule based on the proposed rule. The EPA will not institute a second comment period. Parties interested in commenting should do so at this time. If no such comments are received, the public is advised that this rule will be effective on July 13, 2009 and no further action will be taken on the proposed rule. Please note that if we receive adverse comment on an amendment, paragraph, or section of this rule and if that provision may be severed from the remainder of the rule, we may adopt as final those provisions of the rule that are not the subject of an adverse comment.

Statutory and Executive Order Reviews

Under the CAA, the Administrator is required to approve a section 112(l) delegation request that complies with the provisions of the Act and applicable Federal regulations. Thus, in reviewing section 112(l) submissions, EPA's role is to approve state choices, provided that they meet the criteria of the CAA. Accordingly, this action merely identifies previous EPA approved State delegation requests under section 112(l) and makes a correction to sequential numbering in the regulations and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the action is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 13, 2009. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 63

Environmental protection, Administrative practice and procedure, Air pollution control, Hazardous substances, Intergovernmental relations, Reporting and recordkeeping requirements.

Dated: April 3, 2009.
A. Stanley Meiburg,
Acting Regional Administrator, Region 4.

Title 40, chapter I, part 63 of the Code of Federal Regulations is amended as follows:

PART 63—[AMENDED]

1. The authority citation for part 63 continues to read as follows:

Authority: 42 U.S.C. 7401 et seq.

Subpart E—Approval of State Programs and Delegation of Federal Authorities

2. Section 63.99 is amended as follows:

a. By adding paragraph (a)(1)(i).

b. By redesignating paragraphs (a)(10) through (a)(48) as paragraphs (a)(11) through (a)(49), respectively.

c. By adding a new paragraph (a)(10).

d. By adding a new paragraph (a)(11)(i) to newly designated paragraph (a)(11).

e. By adding a new paragraph (a)(18).

f. In newly designated paragraph (a)(20)(iii) introductory text by removing the reference “(a)(19)(iii)(A)” and adding in its place the reference “(a)(20)(iii)(A)”.

g. In newly designated paragraph (a)(22)(ii) introductory text by removing the reference “(a)(21)(ii)(A)” and adding in it's place the reference “(a)(22)(ii)(A)”.

h. By adding a new paragraph (a)(25).

i. In newly designated paragraph (a)(30)(iv) introductory text by removing the reference “(a)(29)(iii)” and adding in it's place the reference “(a)(30)(iii)”.

j. In newly designated paragraph (a)(30)(iv)(A) introductory text by removing the reference “(a)(29)(iii)” and adding in its place the reference “(a)(30)(iii)”.

k. In newly designated paragraph (a)(31)(i) introductory text by removing the reference “(a)(30)(i)(A)” and adding in its place the reference “(a)(31)(i)(A)”.

l. By adding a new paragraph (a)(34)(i) to newly designated paragraph (a)(34).

m. By adding paragraph (a)(41)(i).

n. In newly designated paragraph (a)(48)(i) table footnote number 7 text by removing the reference “(a)(47)(ii)” and adding in its place the reference “(a)(48)(ii)”.

o. In the newly designated paragraph (a)(48) in “Note to paragraph (a)(47)” by removing the reference “(a)(47)” and adding in its place the reference “(a)(48)”.

§ 63.99 Delegated Federal authorities.

(a) * * *

(1) * * *

(i) The following table lists the specific part 63 standards that have been delegated unchanged to the Alabama Department of Environmental Management for all sources. The “X” symbol is used to indicate each subpart that has been delegated. The delegations are subject to all of the conditions and limitations set forth in Federal law, regulations, policy, guidance, and determinations. Some authorities cannot be delegated and are retained by EPA. These include certain General Provisions authorities and specific parts of some standards.

Part 63 Major & Area Source Rule Delegations—Alabama ¹
| Source category | Subpart | ADEM ² | JCDH ³ | HDNR ⁴
1 | HON | F, G, H, I | X | X | X
2 | Polyvinyl Chloride & Co-polymers, VACATED on 5/11/05 | J |  |  |
3 | Coke Ovens | L | X | X | X
4 | Dry Cleaners | M | X | X | X
5 | Chromium Electroplating | N | X | X | X
6 | EtO Commercial Sterilization | O | X | X | X
7 | Chromium Cooling Towers | Q | X | X | X
8 | Gasoline Distribution (stage 1) | R | X | X | X
9 | Pulp & Paper I | S | X | X | X
10 | Halogenated Solvent Cleaning | T | X | X | X
11 | Polymer & Resins 1 | U | X | X | X
12 | Polymer & Resins 2 | W | X | X | X
13 | Secondary Lead Smelters | X | X | X | X
14 | Marine Tank Vessel Loading | Y | X | X |
15 | Phosphoric Acid Mfg | AA | X | X | X
16 | Phosphate Fertilizers Prod | BB | X | X | X
17 | Petroleum Refineries | CC | X | X | X
18 | Offsite Waste & Recovery | DD | X | X | X
| Tanks; Level 1 | OO | X | X | X
| Containers | PP | X | X | X
| Surface Impoundments | QQ | X | X | X
| Drain Systems | RR | X | X | X
| Oil-Water Separators | VV | X | X | X
19 | Magnetic Tape | EE | X | X | X
20 | Aerospace Industry | GG | X | X | X
21 | Oil & Natural Gas Prod | HH | X | X | X
| Area Source Requirements >>.
22 | Shipbuilding and Repair | II | X | X | X
23 | Wood Furniture Mfg | JJ | X | X | X
24 | Printing & Publishing | KK | X | X | X
25 | Primary Aluminum | LL |  |  |
26 | Pulp & Paper II (Combustion sources) | MM | X | X | X
27 | Generic MACT:
| Control Devices | SS | X | X | X
| Eq. Leaks—Level 1 | TT | X | X | X
| Eq. Leaks—Level 2 | UU | X | X | X
| Tanks—Level 2 | WW | X | X | X
28 | Generic MACT:
| Ethylene Mfg | XX & YY | X | X | X
| Carbon Black | YY | X | X | X
| Spandex Prod | YY | X | X | X
| Cyanide Chemical Mfg | YY | X | X | X
| Acetal Resins | YY | X | X | X
| Acrylic/Modacrylic Fibers | YY | X | X | X
| Hydrogen Fluoride Prod | YY | X | X | X
| Polycarbonates Prod | YY | X | X | X
29 | Steel Pickeling | CCC | X | X | X
30 | Mineral Wool Prod | DDD | X | X | X
31 | Hazardous Waste Combustion (Phase I) | EEE | X | X | X
32 | Boilers that burn Haz. Waste (Phase II) | EEE | X | X | X
33 | HCL Prod. Furnaces burning Haz. Waste (P II) | EEE | X | X | X
34 | Pharmaceutical Prod | GGG | X | X | X
35 | Nat. Gas Transmission & Storage | HHH | X | X | X
36 | Flexible Polyurethane Foam Prod | III | X | X | X
37 | Polymer & Resins 4 | JJJ | X | X | X
38 | Portland Cement | LLL | X | X | X
39 | Pesticide Active Ingredients | MMM | X | X | X
40 | Wool Fiberglass | NNN | X | X | X
41 | Polymer & Resins 3 (Amino & Phenolic) | OOO | X | X | X
42 | Polyether Polyols Prod | PPP | X | X | X
43 | Primary Copper | QQQ |  |  | X
44 | Secondary Aluminum Prod | RRR | X | X | X
45 | Primary Lead Smelting | TTT |  |  |
46 | Petro Refineries (FCC units) | UUU | X | X | X
47 | POTW | VVV | X | X | X
48 | Ferroalloys | XXX | X | X | X
49 | Municipal Landfills | AAAA | X | X | X
50 | Nutritional Yeast | CCCC | X | X | X
51 | Plywood and Composite Wood Prod. (Partial Vacatur Oct. 07) | DDDD | X | X | X
52 | Organic Liquids Distribution (non-gas) | EEEE | X | X | X
53 | Misc. Organic NESHAP | FFFF | X | X | X
54 | Vegetable Oil | GGGG | X | X | X
55 | Wet Formed Fiberglass | HHHH | X | X | X
56 | Auto & Light Duty Truck (coating) | IIII | X | X | X
57 | Paper & Other Webs | JJJJ | X | X | X
58 | Metal Can (coating) | KKKK | X | X | X
59 | Misc. Metal Parts (coating) | MMMM | X | X | X
60 | Large Appliances (coating) | NNNN | X | X | X
61 | Printing, Coating, & Dyeing Fabrics | OOOO | X | X | X
62 | Plastic Parts & Products (coating) | PPPP | X | X | X
63 | Wood Building Products | QQQQ | X | X | X
64 | Metal Furniture (coating) | RRRR | X | X | X
65 | Metal Coil (coating) | SSSS | X | X | X
66 | Leather Tanning & Finishing | TTTT |  |  | X
67 | Cellulose Ethers Prod. Misc. Viscose Processes | UUUU |  |  | X
68 | Boat Manufacturing | VVVV | X | X | X
69 | Reinforced Plastic Composites | WWWW | X | X | X
70 | Rubber Tire Mfg | XXXX | X | X | X
71 | Stationary Combustion Turbines | YYYY | X | X | X
72 | Reciprocating Int. Combustion Engines | ZZZZ | X | X | X
| Area Source Requirements >>.
73 | Lime Manufacturing | AAAAA | X | X | X
74 | Semiconductor Production | BBBBB | X | X | X
75 | Coke Ovens: (Push/Quench/Battery/Stacks) | CCCCC | X | X | X
76 | Industrial/Commercial/Institutional Boilers & Process Heaters, VACATED on 7/30/07 | DDDDD |  |  |
77 | Iron Foundries | EEEEE | X | X | X
78 | Integrated Iron & Steel | FFFFF | X | X | X
79 | Site Remediation | GGGGG | X | X | X
80 | Misc. Coating Manufacturing | HHHHH | X | X | X
81 | Mercury Cell Chlor-Alkali | IIIII | X | X | X
82 | Brick & Structural Clay Products, VACATED on 6/18/07 | JJJJJ |  |  |
83 | Clay Ceramics Manufacturing, VACATED on 6/18/07 | KKKKK |  |  |
84 | Asphalt Roofing & Processing | LLLLL | X | X | X
85 | Flex. Polyurethane Foam Fabrication | MMMMM |  |  | X
86 | Hydrochloric Acid Prod/Fumed Silica | NNNNN | X | X | X
87 | Engine & Rocket Test Facilities | PPPPP | X | X | X
88 | Friction Materials Manufacturing | QQQQQ | X | X | X
89 | Taconite Iron Ore | RRRRR | X | X | X
90 | Refactories | SSSSS |  |  | X
91 | Primary Magnesium | TTTTT | X | X | X
Area Source Rules
92 | Hospital Sterilizers | WWWWW |  |  |
93 | Stainless and Nonstainless Steel Mfg. Electric Arc Furnaces | YYYYY |  |  |
94 | Iron & Steel foundries | ZZZZZ |  |  |
95 | Gasoline Distribution—Bulk | BBBBBB |  |  |
96 | Gasoline Dispensing Facilities | CCCCCC |  |  |
97 | PVC & Copolymers Prod | DDDDDD | X | X |
98 | Primary Copper | EEEEEE | X | X |
99 | Secondary Copper Smelting | FFFFFF | X | X |
100 | Primary Nonferrous Metals | GGGGGG | X | X |
101 | Paint Stripping | HHHHHH |  |  |
| Auto-Body Refinishing
| Plastic Parts & Prod. (coating)
102 | Acrylic/Modacrylic Fibers Prod | LLLLLL |  |  |
103 | Carbon Black Prod | MMMMMM |  |  |
104 | Chemical Mfg. Chrom | NNNNNN |  |  |
105 | Flex. Polyurethane Foam Fab | OOOOOO |  |  |
| Flex. Polyurethane Foam Prod
106 | Lead Acid Battery Mfg | PPPPPP |  |  |
107 | Wood Preserving | QQQQQQ |  |  |
108 | Clay Ceramics Mfg | RRRRRR |  |  |
109 | Glass Mfg | SSSSSS |  |  |
110 | Secondary Nonferrous Metals | TTTTTT |  |  |
110 | Plating and Polishing | WWWWWW |  |  |
112 | Industrial Mach. & Eq. Finishing | XXXXXX
| Elect. & Electronics Eq. Finishing
| Fabricated Metal Prod
| Fabricated Plate Work (Boiler Shop)
| Fabricated Structural Metal Mfg
| Heating Eq. Mfg
| Iron and Steel Forging
| Primary Metals Prod. Mfg
| Valves and Pipe Fittings Mfg
113 | Ferroalloys Production | YYYYYY
| Ferro/Silico Manganese
¹ State program approved on October 29, 2001. Table last updated on October 5, 2008.
² Alabama Department of Environmental Management.
³ Jefferson County Department of Health.
⁴ Huntsville Department of Natural Resources.

* * * * *

(10) Florida.

(i) The following table lists the specific part 63 standards that have been delegated unchanged to the Florida Department of Environmental Protection (FDEP) for all sources. The “X” symbol is used to indicate each subpart that has been delegated. The delegations are subject to all of the conditions and limitations set forth in Federal law, regulations, policy, guidance, and determinations. Some authorities cannot be delegated and are retained by EPA. These include certain General Provisions authorities and specific parts of some standards.

Part 63 Major & Area Source Rule Delegations—Florida ¹
| Source category | Subpart | FDEP
1 | HON | F, G, H, I | X
2 | Polyvinyl Chloride & Co-polymers VACATED on 5/11/05 | J | X
3 | Coke Ovens | L | X
4 | Dry Cleaners | M | X
5 | Chromium Electroplating | N | X
6 | EtO Commercial Sterilization | O | X
7 | Chromium Cooling Towers | Q | X
8 | Gasoline Distribution (stage 1) | R | X
9 | Pulp & Paper I | S | X
10 | Halogenated Solvent Cleaning | T | X
11 | Polymer & Resins 1 | U | X
12 | Polymer & Resins 2 | W | X
13 | Secondary Lead Smelters | X | X
14 | Marine Tank Vessel Loading | Y | X
15 | Phosphoric Acid Mfg | AA | X
16 | Phosphate Fertilizers Prod | BB | X
17 | Petroleum Refineries | CC | X
18 | Offsite Waste & Recovery | DD | X
| Tanks; Level 1 | OO | X
| Containers | PP | X
| Surface Impoundments | QQ | X
| Drain Systems | RR | X
| Oil-Water Separators | VV | X
19 | Magnetic Tape | EE | X
20 | Aerospace Industry | GG | X
21 | Oil & Natural Gas Prod | HH | X
| Area Source Requirements >>.
22 | Shipbuilding and Repair | II | X
23 | Wood Furniture Mfg | JJ | X
24 | Printing & Publishing | KK | X
25 | Primary Aluminum | LL | X
26 | Pulp & Paper II (Combustion sources) | MM | X
27 | Generic MACT:
| Control Devices | SS | X
| Eq. Leaks—Level 1 | TT | X
| Eq. Leaks—Level 2 | UU | X
| Tanks—Level 2 | WW | X
28 | Generic MACT:
| Ethylene Mfg | XX & YY | X
| Carbon Black | YY | X
| Spandex Prod | YY | X
| Cyanide Chemical Mfg | YY | X
| Acetal Resins | YY | X
| Acrylic/Modacrylic Fibers | YY | X
| Hydrogen Fluoride Prod | YY | X
| Polycarbonates Prod | YY | X
29 | Steel Pickeling | CCC | X
30 | Mineral Wool Prod | DDD | X
31 | Hazardous Waste Combustion (Phase I) | EEE | X
32 | Boilers that burn Haz. Waste (Phase II) | EEE | X
33 | HCL Prod. Furnaces burning Haz. Waste (P II) | EEE | X
34 | Pharmaceutical Prod | GGG | X
35 | Nat. Gas Transmission & Storage | HHH | X
36 | Flexible Polyurethane Foam Prod | III | X
37 | Polymer & Resins 4 | JJJ | X
38 | Portland Cement | LLL | X
39 | Pesticide Active Ingredients | MMM | X
40 | Wool Fiberglass | NNN | X
41 | Polymer & Resins 3 (Amino & Phenolic) | OOO | X
42 | Polyether Polyols Prod | PPP | X
43 | Primary Copper | QQQ | X
44 | Secondary Aluminum Prod | RRR | X
45 | Primary Lead Smelting | TTT | X
46 | Petro Refineries (FCC units) | UUU | X
47 | POTW | VVV | X
48 | Ferroalloys | XXX | X
49 | Municipal Landfills | AAAA | X
50 | Nutritional Yeast | CCCC | X
51 | Plywood and Composite Wood Prod. (Partial Vacatur Oct. 07) | DDDD | X
52 | Organic Liquids Distribution (non-gas) | EEEE | X
53 | Misc. Organic NESHAP | FFFF | X
54 | Vegetable Oil | GGGG | X
55 | Wet Formed Fiberglass | HHHH | X
56 | Auto & Light Duty Truck (coating) | IIII | X
57 | Paper & Other Webs | JJJJ | X
58 | Metal Can (coating) | KKKK | X
59 | Misc. Metal Parts (coating) | MMMM | X
60 | Large Appliances (coating) | NNNN | X
61 | Printing, Coating, & Dyeing Fabrics | OOOO | X
62 | Plastic Parts & Products (coating) | PPPP | X
63 | Wood Building Products | QQQQ | X
64 | Metal Furniture (coating) | RRRR | X
65 | Metal Coil (coating) | SSSS | X
66 | Leather Tanning & Finishing | TTTT | X
67 | Cellulose Ethers Prod. Misc. Viscose Processes | UUUU | X
68 | Boat Manufacturing | VVVV | X
69 | Reinforced Plastic Composites | WWWW | X
70 | Rubber Tire Mfg | XXXX | X
71 | Stationary Combustion Turbines | YYYY | X
72 | Reciprocating Int. Combustion Engines | ZZZZ | X
| Area Source Requirements >>.
73 | Lime Manufacturing | AAAAA | X
74 | Semiconductor Production | BBBBB | X
75 | Coke Ovens: (Push/Quench/Battery/Stacks) | CCCCC | X
76 | Industrial/Commercial/Institutional Boilers & Process Heaters, VACATED on 7/30/07 | DDDDD
77 | Iron Foundries | EEEEE | X
78 | Integrated Iron & Steel | FFFFF | X
79 | Site Remediation | GGGGG | X
80 | Misc. Coating Manufacturing | HHHHH | X
81 | Mercury Cell Chlor-Alkali | IIIII | X
82 | Brick & Structural Clay Products, VACATED on 6/18/07 | JJJJJ | X
83 | Clay Ceramics Manufacturing, VACATED on 6/18/07 | KKKKK | X
84 | Asphalt Roofing & Processing | LLLLL | X
85 | Flex. Polyurethane Foam Fabrication | MMMMM | X
86 | Hydrochloric Acid Prod/Fumed Silica | NNNNN | X
87 | Engine & Rocket Test Facilities | PPPPP | X
88 | Friction Materials Manufacturing | QQQQQ | X
89 | Taconite Iron Ore | RRRRR | X
90 | Refactories | SSSSS | X
91 | Primary Magnesium | TTTTT | X
Area Source Rules
92 | Hospital Sterilizers | WWWWW |
93 | Stainless and Nonstainless Steel Mfg. Electric Arc Furnaces | YYYYY | X
94 | Iron & Steel foundries | ZZZZZ | X
95 | Gasoline Distribution—Bulk | BBBBBB
96 | Gasoline Dispensing Facilities | CCCCCC
97 | PVC & Copolymers Prod | DDDDDD | X
98 | Primary Copper | EEEEEE | X
99 | Secondary Copper Smelting | FFFFFF | X
100 | Primary Nonferrous Metals | GGGGGG | X
101 | Paint Stripping | HHHHHH
| Auto-Body Refinishing
| Plastic Parts & Prod. (coating)
102 | Acrylic/Modacrylic Fibers Prod | LLLLLL | X
103 | Carbon Black Prod | MMMMMM | X
104 | Chemical Mfg. Chrom | NNNNNN | X
105 | Flex. Polyurethane Foam Fab | OOOOOO | X
| Flex. Polyurethane Foam Prod
106 | Lead Acid Battery Mfg | PPPPPP | X
107 | Wood Preserving | QQQQQQ | X
108 | Clay Ceramics Mfg | RRRRRR | X
109 | Glass Mfg | SSSSSS | X
110 | Secondary Nonferrous Metals | TTTTTT | X
110 | Plating and Polishing | WWWWWW |
112 | Industrial Mach. & Eq. Finishing | XXXXXX
| Elect. & Electronics Eq. Finishing
| Fabricated Metal Prod
| Fabricated Plate Work (Boiler Shop)
| Fabricated Structural Metal Mfg
| Heating Eq. Mfg
| Iron and Steel Forging
| Primary Metals Prod. Mfg
| Valves and Pipe Fittings Mfg
113 | Ferroalloys Production | YYYYYY
| Ferro/Silico Manganese
¹ State program approved on October 1, 2001. Delegation table last updated on December 19, 2008.

(ii) [Reserved]

* * * * *

(11) * * *

(i) The following table lists the specific part 63 standards that have been delegated unchanged to the Georgia Environmental Protection Division (GEPD) for all sources. The “X” symbol is used to indicate each subpart that has been delegated. The delegations are subject to all of the conditions and limitations set force in Federal law, regulations, policy, guidance, and determinations. Some authorities cannot be delegated and are retained by EPA. These include certain General Provisions authorities and specific parts of some standards.

Part 63 Major & Area Source Rule Delegations—Georgia ¹
| Source category | Subpart | GEPD
1 | HON | F, G, H, I | X
2 | Polyvinyl Chloride & Co-polymers VACATED on 5/11/05 | J | X
3 | Coke Ovens | L | X
4 | Dry Cleaners | M | X
5 | Chromium Electroplating | N | X
6 | EtO Commercial Sterilization | O | X
7 | Chromium Cooling Towers | Q | X
8 | Gasoline Distribution (stage 1) | R | X
9 | Pulp & Paper I | S | X
10 | Halogenated Solvent Cleaning | T | X
11 | Polymer & Resins 1 | U | X
12 | Polymer & Resins 2 | W | X
13 | Secondary Lead Smelters | X | X
14 | Marine Tank Vessel Loading | Y | X
15 | Phosphoric Acid Mfg | AA | X
16 | Phosphate Fertilizers Prod | BB | X
17 | Petroleum Refineries | CC | X
18 | Offsite Waste & Recovery | DD | X
| Tanks; Level 1 | OO | X
| Containers | PP | X
| Surface Impoundments | QQ | X
| Drain Systems | RR | X
| Oil-Water Separators | VV | X
19 | Magnetic Tape | EE | X
20 | Aerospace Industry | GG | X
21 | Oil & Natural Gas Prod | HH | X
| Area Source Requirements >>.
22 | Shipbuilding and Repair | II | X
23 | Wood Furniture Mfg | JJ | X
24 | Printing & Publishing | KK | X
25 | Primary Aluminum | LL
26 | Pulp & Paper II (Combustion sources) | MM | X
27 | Generic MACT:
| Control Devices | SS | X
| Eq. Leaks—Level 1 | TT | X
| Eq. Leaks—Level 2 | UU | X
| Tanks—Level 2 | WW | X
28 | Generic MACT:
| Ethylene Mfg | XX & YY | X
| Carbon Black | YY | X
| Spandex Prod | YY | X
| Cyanide Chemical Mfg | YY | X
| Acetal Resins | YY | X
| Acrylic/Modacrylic Fibers | YY | X
| Hydrogen Fluoride Prod | YY | X
| Polycarbonates Prod | YY | X
29 | Steel Pickeling | CCC | X
30 | Mineral Wool Prod | DDD | X
31 | Hazardous Waste Combustion (Phase I) | EEE | X
32 | Boilers that burn Haz. Waste (Phase II) | EEE | X
33 | HCL Prod. Furnaces burning Haz. Waste (P II) | EEE | X
34 | Pharmaceutical Prod | GGG | X
35 | Nat. Gas Transmission & Storage | HHH | X
36 | Flexible Polyurethane Foam Prod | I I I | X
37 | Polymer & Resins 4 | JJJ | X
38 | Portland Cement | LLL | X
39 | Pesticide Active Ingredients | MMM | X
40 | Wool Fiberglass | NNN | X
41 | Polymer & Resins 3 (Amino & Phenolic) | OOO | X
42 | Polyether Polyols Prod | PPP | X
43 | Primary Copper | QQQ | X
44 | Secondary Aluminum Prod | RRR | X
45 | Primary Lead Smelting | TTT | X
46 | Petro Refineries (FCC units) | UUU | X
47 | POTW | VVV | X
48 | Ferroalloys | XXX | X
49 | Municipal Landfills | AAAA | X
50 | Nutritional Yeast | CCCC | X
51 | Plywood and Composite Wood Prod. (Partial Vacatur Oct. 07) | DDDD | X
52 | Organic Liquids Distribution (non-gas) | EEEE | X
53 | Misc. Organic NESHAP | FFFF | X
54 | Vegetable Oil | GGGG | X
55 | Wet Formed Fiberglass | HHHH | X
56 | Auto & Light Duty Truck (coating) | IIII | X
57 | Paper & Other Webs | JJJJ | X
58 | Metal Can (coating) | KKKK | X
59 | Misc. Metal Parts (coating) | MMMM | X
60 | Large Appliances (coating) | NNNN | X
61 | Printing, Coating, & Dyeing Fabrics | OOOO | X
62 | Plastic Parts & Products (coating) | PPPP | X
63 | Wood Building Products | QQQQ | X
64 | Metal Furniture (coating) | RRRR | X
65 | Metal Coil (coating) | S S S S | X
66 | Leather Tanning & Finishing | TTTT | X
67 | Cellulose Ethers Prod. Misc. Viscose Processes | UUUU | X
68 | Boat Manufacturing | VVVV | X
69 | Reinforced Plastic Composites | WWWW | X
70 | Rubber Tire Mfg | XXXX | X
71 | Stationary Combustion Turbines | YYYY | X
72 | Reciprocating Int. Combustion Engines | ZZZZ | X
| Area Source Requirements >>.
73 | Lime Manufacturing | AAAAA | X
74 | Semiconductor Production | BBBBB | X
75 | Coke Ovens: (Push/Quench/Battery/Stacks) | CCCCC | X
76 | Industrial/Commercial/Institutional Boilers & Process Heaters, VACATED on 7/30/07 | DDDDD
77 | Iron Foundries | EEEEE | X
78 | Integrated Iron & Steel | FFFFF | X
79 | Site Remediation | GGGGG | X
80 | Misc. Coating Manufacturing | HHHHH | X
81 | Mercury Cell Chlor-Alkali | IIIII | X
82 | Brick & Structural Clay Products, VACATED on 6/18/07 | JJJJJ
83 | Clay Ceramics Manufacturing, VACATED on 6/18/07 | KKKKK
84 | Asphalt Roofing & Processing | LLLLL | X
85 | Flex. Polyurethane Foam Fabrication | MMMMM | X
86 | Hydrochloric Acid Prod/Fumed Silica | NNNNN | X
87 | Engine & Rocket Test Facilities | PPPPP | X
88 | Friction Materials Manufacturing | QQQQQ | X
89 | Taconite Iron Ore | RRRRR | X
90 | Refactories | SSSSS | X
91 | Primary Magnesium | TTTTT | X
Area Source Rules
92 | Hospital Sterilizers | WWWWW
93 | Stainless and Nonstainless Steel Mfg. Electric Arc Furnaces | YYYYY
94 | Iron & Steel foundries | ZZZZZ
95 | Gasoline Distribution—Bulk | BBBBBB
96 | Gasoline Dispensing Facilities | CCCCCC
97 | PVC & Copolymers Prod | DDDDDD
98 | Primary Copper | EEEEEE
99 | Secondary Copper Smelting | FFFFFF
100 | Primary Nonferrous Metals | GGGGGG
| Paint Stripping
101 | Auto-Body Refinishing | HHHHHH
| Plastic Parts & Prod. (coating)
102 | Acrylic/Modacrylic Fibers Prod | LLLLLL
103 | Carbon Black Prod | MMMMMM
104 | Chemical Mfg. Chrom | NNNNNN
| Flex. Polyurethane Foam Fab
105 | Flex. Polyurethane Foam Prod | OOOOOO
106 | Lead Acid Battery Mfg | PPPPPP
107 | Wood Preserving | QQQQQQ
108 | Clay Ceramics Mfg | RRRRRR
109 | Glass Mfg | SSSSSS
110 | Secondary Nonferrous Metals | TTTTTT
110 | Plating and Polishing | WWWWWW
112 | Industrial Mach. & Eq. Finishing | XXXXXX
| Elect. & Electronics Eq. Finishing
| Fabricated Metal Prod
| Fabricated Plate Work (Boiler Shop)
| Fabricated Structural Metal Mfg
| Heating Eq. Mfg
| Iron and Steel Forging
| Primary Metals Prod. Mfg
| Valves and Pipe Fittings Mfg
113 | Ferroalloys Production | YYYYYY
| Ferro/Silico Manganese
¹ State program approved on June 8, 2000. Delegation table last updated on September 15, 2008.

* * * * *

(18) Kentucky.

(i) The following table lists the specific part 63 standards that have been delegated unchanged to the Kentucky Department of Environmental Protection for all sources. The “X” symbol is used to indicate each subpart that has been delegated. The delegations are subject to all of the conditions and limitations set forth in Federal law, regulations, policy, guidance, and determinations. Some authorities cannot be delegated and are retained by EPA. These include certain General Provisions authorities and specific parts of some standards.

Part 63 Major & Area Source Rule Delegations—Kentucky ¹
| Source category | Subpart | KDEP ² | LAPCD ³
1 | HON | F, G, H, I | X | X
2 | Polyvinyl Chloride & Co-polymers VACATED on 5/11/05 | J
3 | Coke Ovens | L | X | X
4 | Dry Cleaners | M | X | X
5 | Chromium Electroplating | N | X | X
6 | EtO Commercial Sterilization | O | X | X
7 | Chromium Cooling Towers | Q | X | X
8 | Gasoline Distribution (stage 1) | R | X | X
9 | Pulp & Paper I | S | X | X
10 | Halogenated Solvent Cleaning | T | X | X
11 | Polymer & Resins 1 | U | X | X
12 | Polymer & Resins 2 | W | X | X
13 | Secondary Lead Smelters | X | X | X
14 | Marine Tank Vessel Loading | Y | X | X
15 | Phosphoric Acid Mfg | AA | X | X
16 | Phosphate Fertilizers Prod | BB | X | X
17 | Petroleum Refineries | CC | X | X
18 | Offsite Waste & Recovery | DD | X | X
| Tanks; Level 1 | OO | X | X
| Containers | PP | X | X
| Surface Impoundments | QQ | X | X
| Drain Systems | RR | X | X
| Oil-Water Separators | VV | X | X
19 | Magnetic Tape | EE | X | X
20 | Aerospace Industry | GG | X | X
21 | Oil & Natural Gas Prod | HH | X | X
| Area Source Requirements >>. | X |
22 | Shipbuilding and Repair | II | X | X
23 | Wood Furniture Mfg | JJ | X | X
24 | Printing & Publishing | KK | X | X
25 | Primary Aluminum | LL | X
26 | Pulp & Paper II (Combustion sources) | MM | X | X
27 | Generic MACT:
| Control Devices | SS | X | X
| Eq. Leaks—Level 1 | TT | X | X
| Eq. Leaks—Level 2 | UU | X | X
| Tanks—Level 2 | WW | X | X
28 | Generic MACT:
| Ethylene Mfg | XX & YY | X | X
| Carbon Black | YY | X | X
| Spandex Prod | YY | X | X
| Cyanide Chemical Mfg | YY | X | X
| Acetal Resins | YY | X | X
| Acrylic/Modacrylic Fibers | YY | X | X
| Hydrogen Fluoride Prod | YY | X | X
| Polycarbonates Prod | YY | X | X
29 | Steel Pickling | CCC | X | X
30 | Mineral Wool Prod | DDD | X | X
31 | Hazardous Waste Combustion (Phase I) | EEE | X | X
32 | Boilers that burn Haz. Waste (Phase II) | EEE | X | X
33 | HCL Prod. Furnaces burning Haz. Waste (P II) | EEE | X | X
34 | Pharmaceutical Prod | GGG | X | X
35 | Nat. Gas Transmission & Storage | HHH | X | X
36 | Flexible Polyurethane Foam Prod | III | X | X
37 | Polymer & Resins 4 | JJJ | X | X
38 | Portland Cement | LLL | X | X
39 | Pesticide Active Ingredients | MMM | X | X
40 | Wool Fiberglass | NNN | X | X
41 | Polymer & Resins 3 (Amino & Phenolic) | OOO | X | X
42 | Polyether Polyols Prod | PPP | X | X
43 | Primary Copper | QQQ | X | X
44 | Secondary Aluminum Prod | RRR | X | X
45 | Primary Lead Smelting | TTT | X
46 | Petro Refineries (FCC units) | UUU | X | X
47 | POTW | VVV | X | X
48 | Ferroalloys | XXX | X | X
49 | Municipal Landfills | AAAA | X | X
50 | Nutritional Yeast | CCCC | X | X
51 | Plywood and Composite Wood Prod. (Partial Vacatur Oct. 07) | DDDD | X | X
52 | Organic Liquids Distribution (non-gas) | EEEE | X | X
53 | Misc. Organic NESHAP | FFFF | X | X
54 | Vegetable Oil | GGGG | X | X
55 | Wet Formed Fiberglass | HHHH | X | X
56 | Auto & Light Duty Truck (coating) | IIII | X | X
57 | Paper & Other Webs | JJJJ | X | X
58 | Metal Can (coating) | KKKK | X | X
59 | Misc. Metal Parts (coating) | MMMM | X | X
60 | Large Appliances (coating) | NNNN | X | X
61 | Printing, Coating, & Dyeing Fabrics | OOOO | X | X
62 | Plastic Parts & Products (coating) | PPPP | X | X
63 | Wood Building Products | QQQQ | X | X
64 | Metal Furniture (coating) | RRRR | X | X
65 | Metal Coil (coating) | SSSS | X | X
66 | Leather Tanning & Finishing | TTTT | X | X
67 | Cellulose Ethers Prod. Misc. Viscose Processes | UUUU | X | X
68 | Boat Manufacturing | VVVV | X | X
69 | Reinforced Plastic Composites | WWWW | X | X
70 | Rubber Tire Mfg | XXXX | X | X
71 | Stationary Combustion Turbines | YYYY | X | X
72 | Reciprocating Int. Combustion Engines | ZZZZ | X | X
| Area Source Requirements >>. | X
73 | Lime Manufacturing | AAAAA | X | X
74 | Semiconductor Production | BBBBB | X | X
75 | Coke Ovens: (Push/Quench/Battery/Stacks) | CCCCC | X | X
76 | Industrial/Commercial/Institutional Boilers & Process Heaters, VACATED on 7/30/07 | DDDDD
77 | Iron Foundries | EEEEE | X | X
78 | Integrated Iron & Steel | FFFFF | X | X
79 | Site Remediation | GGGGG | X | X
80 | Misc. Coating Manufacturing | HHHHH | X | X
81 | Mercury Cell Chlor-Alkali | IIIII | X | X
82 | Brick & Structural Clay Products, VACATED on 6/18/07 | JJJJJ
83 | Clay Ceramics Manufacturing, VACATED on 6/18/07 | KKKKK
84 | Asphalt Roofing & Processing | LLLLL | X | X
85 | Flex. Polyurethane Foam Fabrication | MMMMM | X | X
86 | Hydrochloric Acid Prod/Fumed Silica | NNNNN | X | X
87 | Engine & Rocket Test Facilities | PPPPP | X | X
88 | Friction Materials Manufacturing | QQQQQ | X | X
89 | Taconite Iron Ore | RRRRR | X | X
90 | Refactories | SSSSS | X | X
91 | Primary Magnesium | TTTTT | X | X
Area Source Rules
92 | Hospital Sterilizers | WWWWW | X
93 | Electric Arc Furnaces Stainless and Nonstainless Steel Mfg | YYYYY | X
94 | Iron & Steel foundries | ZZZZZ | X
95 | Gasoline Distribution—Bulk | BBBBBB | X
96 | Gasoline Dispensing Facilities | CCCCCC | X
97 | PVC & Copolymers Prod | DDDDDD | X
98 | Primary Copper | EEEEEE | X
99 | Secondary Copper Smelting | FFFFFF | X
100 | Primary Nonferrous Metals | GGGGGG | X
| Paint Stripping
101 | Auto-Body Refinishing | HHHHHH | X
| Plastic Parts & Prod. (coating)
102 | Acrylic/Modacrylic Fibers Prod | LLLLLL | X
103 | Carbon Black Prod | MMMMMM | X
104 | Chemical Mfg. Chrom | NNNNNN | X
| Flex. Polyurethane Foam Fab
105 | Flex. Polyurethane Foam Prod | OOOOOO | X
106 | Lead Acid Battery Mfg | PPPPPP | X
107 | Wood Preserving | QQQQQQ | X
108 | Clay Ceramics Mfg | RRRRRR
109 | Glass Mfg | SSSSSS
110 | Secondary Nonferrous Metals | TTTTTT
110 | Plating and Polishing | WWWWWW
112 | Heating Eq. Mfg | XXXXXX
| Industrial Mach. & Eq. Finishing
| Elect. & Electronics Eq. Finishing
| Fabricated Metal Prod
| Fabricated Plate Work (Boiler Shop)
| Fabricated Structural Metal Mfg
| Iron and Steel Forging
| Primary Metals Prod. Mfg
| Valves and Pipe Fittings Mfg
| Ferroalloys Production
113 | Ferro/Silico Manganese | YYYYYY
¹ State program approved on October 31, 2001. Delegation table last updated on April 1, 2009.
² Kentucky Department for Environmental Protection.
³ Louisville Air Pollution Control District.

(ii) [Reserved]

* * * * *

(25) Mississippi.

(i) The following table lists the specific part 63 standards that have been delegated unchanged to the Mississippi Department of Environmental Quality (MDEQ) for all sources. The “X” symbol is used to indicate each subpart that has been delegated. The delegations are subject to all of the conditions and limitations set forth in Federal law, regulations, policy, guidance, and determinations. Some authorities cannot be delegated and are retained by EPA. These include certain General Provisions authorities and specific parts of some standards.

Part 63 Major & Area Source Rule Delegations—Mississippi ¹
| Source category | Subpart | MDEQ
1 | HON | F, G, H, I | X
2 | Polyvinyl Chloride & Co-polymers VACATED on 5/11/05 | J
3 | Coke Ovens | L | X
4 | Dry Cleaners | M | X
5 | Chromium Electroplating | N | X
6 | EtO Commercial Sterilization | O | X
7 | Chromium Cooling Towers | Q | X
8 | Gasoline Distribution (stage 1) | R | X
9 | Pulp & Paper I | S | X
10 | Halogenated Solvent Cleaning | T | X
11 | Polymer & Resins 1 | U | X
12 | Polymer & Resins 2 | W | X
13 | Secondary Lead Smelters | X | X
14 | Marine Tank Vessel Loading | Y | X
15 | Phosphoric Acid Mfg | AA | X
16 | Phosphate Fertilizers Prod | BB | X
17 | Petroleum Refineries | CC | X
18 | Offsite Waste & Recovery | DD | X
| Tanks; Level 1 | OO | X
| Containers | PP | X
| Surface Impoundments | QQ | X
| Drain Systems | RR | X
| Oil-Water Separators | VV | X
19 | Magnetic Tape | EE | X
20 | Aerospace Industry | GG | X
21 | Oil & Natural Gas Prod | HH | X
| Area Source Requirements >>.
22 | Shipbuilding and Repair | II | X
23 | Wood Furniture Mfg | JJ | X
24 | Printing & Publishing | KK | X
25 | Primary Aluminum | LL | X
26 | Pulp & Paper II (Combustion sources) | MM | X
27 | Generic MACT:
| Control Devices | SS | X
| Eq. Leaks—Level 1 | TT | X
| Eq. Leaks—Level 2 | UU | X
| Tanks—Level 2 | WW | X
28 | Generic MACT:
| Ethylene Mfg | XX & YY | X
| Carbon Black | YY | X
| Spandex Prod | YY | X
| Cyanide Chemical Mfg | YY | X
| Acetal Resins | YY | X
| Acrylic/Modacrylic Fibers | YY | X
| Hydrogen Fluoride Prod | YY | X
| Polycarbonates Prod | YY | X
29 | Steel Pickeling | CCC | X
30 | Mineral Wool Prod | DDD | X
31 | Hazardous Waste Combustion (Phase I) | EEE | X
32 | Boilers that burn Haz. Waste (Phase II) | EEE | X
33 | HCL Prod. Furnaces burning Haz. Waste (P II) | EEE | X
34 | Pharmaceutical Prod | GGG | X
35 | Nat. Gas Transmission & Storage | HHH | X
36 | Flexible Polyurethane Foam Prod | III | X
37 | Polymer & Resins 4 | JJJ | X
38 | Portland Cement | LLL | X
39 | Pesticide Active Ingredients | MMM | X
40 | Wool Fiberglass | NNN | X
41 | Polymer & Resins 3 (Amino & Phenolic) | OOO | X
42 | Polyether Polyols Prod | PPP | X
43 | Primary Copper | QQQ | X
44 | Secondary Aluminum Prod | RRR | X
45 | Primary Lead Smelting | TTT | X
46 | Petro Refineries (FCC units) | UUU | X
47 | POTW | VVV | X
48 | Ferroalloys | XXX | X
49 | Municipal Landfills | AAAA | X
50 | Nutritional Yeast | CCCC | X
51 | Plywood and Composite Wood Prod. (Partial Vacatur Oct. 07) | DDDD | X
52 | Organic Liquids Distribution (non-gas) | EEEE | X
53 | Misc. Organic NESHAP | FFFF | X
54 | Vegetable Oil | GGGG | X
55 | Wet Formed Fiberglass | HHHH | X
56 | Auto & Light Duty Truck (coating) | IIII | X
57 | Paper & Other Webs | JJJJ | X
58 | Metal Can (coating) | KKKK | X
59 | Misc. Metal Parts (coating) | MMMM | X
60 | Large Appliances (coating) | NNNN | X
61 | Printing, Coating, & Dyeing Fabrics | OOOO | X
62 | Plastic Parts & Products (coating) | PPPP | X
63 | Wood Building Products | QQQQ | X
64 | Metal Furniture (coating) | RRRR | X
65 | Metal Coil (coating) | SSSS | X
66 | Leather Tanning & Finishing | TTTT | X
67 | Cellulose Ethers Prod. Misc. Viscose Processes | UUUU | X
68 | Boat Manufacturing | VVVV | X
69 | Reinforced Plastic Composites | WWWW | X
70 | Rubber Tire Mfg | XXXX | X
71 | Stationary Combustion Turbines | YYYY | X
72 | Reciprocating Int. Combustion Engines | ZZZZ | X
| Area Source Requirements >>.
73 | Lime Manufacturing | AAAAA | X
74 | Semiconductor Production | BBBBB | X
75 | Coke Ovens: (Push/Quench/Battery/Stacks) | CCCCC | X
76 | Industrial/Commercial/Institutional Boilers & Process Heaters, VACATED on 7/30/07 | DDDDD
77 | Iron Foundries | EEEEE | X
78 | Integrated Iron & Steel | FFFFF | X
79 | Site Remediation | GGGGG | X
80 | Misc. Coating Manufacturing | HHHHH | X
81 | Mercury Cell Chlor-Alkali | IIIII | X
82 | Brick & Structural Clay Products, VACATED on 6/18/07 | JJJJJ |
83 | Clay Ceramics Manufacturing, VACATED on 6/18/07 | KKKKK
84 | Asphalt Roofing & Processing | LLLLL | X
85 | Flex. Polyurethane Foam Fabrication | MMMMM | X
86 | Hydrochloric Acid Prod/Fumed Silica | NNNNN | X
87 | Engine & Rocket Test Facilities | PPPPP | X
88 | Friction Materials Manufacturing | QQQQQ | X
89 | Taconite Iron Ore | RRRRR | X
90 | Refactories | SSSSS | X
91 | Primary Magnesium | TTTTT | X
Area Source Rules
92 | Hospital Sterilizers | WWWWW | X
93 | Stainless and Nonstainless Steel Mfg. Electric Arc Furnaces | YYYYY | X
94 | Iron & Steel foundries | ZZZZZ | X
95 | Gasoline Distribution—Bulk | BBBBBB | X
96 | Gasoline Dispensing Facilities | CCCCCC | X
97 | PVC & Copolymers Prod. | DDDDDD | X
98 | Primary Copper | EEEEEE | X
99 | Secondary Copper Smelting | FFFFFF | X
100 | Primary Nonferrous Metals | GGGGGG | X
| Paint Stripping
101 | Auto-Body Refinishing | HHHHHH
| Plastic Parts & Prod. (coating)
102 | Acrylic/Modacrylic Fibers Prod | LLLLLL | X
103 | Carbon Black Prod | MMMMMM | X
104 | Chemical Mfg. Chrom | NNNNNN | X
| Flex. Polyurethane Foam Fab
105 | Flex. Polyurethane Foam Prod | OOOOOO | X
106 | Lead Acid Battery Mfg. | PPPPPP | X
107 | Wood Preserving | QQQQQQ | X
108 | Clay Ceramics Mfg | RRRRRR | X
109 | Glass Mfg | SSSSSS | X
110 | Secondary Nonferrous Metals | TTTTTT | X
110 | Plating and Polishing | WWWWWW | X
112 | Heating Eq. Mfg | XXXXXX | X
| Industrial Mach. & Eq. Finishing
| Elect. & Electronics Eq. Finishing
| Fabricated Metal Prod
| Fabricated Plate Work (Boiler Shop)
| Fabricated Structural Metal Mfg
| Iron and Steel Forging
| Primary Metals Prod. Mfg
| Valves and Pipe Fittings Mfg
113 | Ferroalloys Production Ferro/Silico Manganese | YYYYYY
¹ State program approved on December 28, 1994. Delegation table last updated on November 3, 2008.

(ii) [Reserved]

* * * * *

(34) * * *

(i) The following table lists the specific part 63 standards that have been delegated unchanged to the North Carolina Department of Environment and Natural Resources (NCDENR) for all sources. The “X” symbol is used to indicate each subpart that has been delegated. The delegations are subject to all of the conditions and limitations set forth in Federal law, regulations, policy, guidance, and determinations. Some authorities cannot be delegated and are retained by EPA. These include certain General Provisions authorities and specific parts of some standards.

Part 63 Major & Area Source Rule Delegations—North Carolina ¹
Source category | Subpart | NCDENR | FCEAD ² | MCDEP ³ | WNC ⁴
HON | F, G, H, I | X | X | X | X
Polyvinyl Chloride & Co-polymers VACATED on 5/11/05 | J
Coke Ovens | L | X | X | X | X
Dry Cleaners | M | X | X | X | X
Chromium Electroplating | N | X | X | X | X
EtO Commercial Sterilization | O | X | X | X | X
Chromium Cooling Towers | Q | X | X | X | X
Gasoline Distribution (stage 1) | R | X | X | X | X
Pulp & Paper I | S | X | X | X | X
Halogenated Solvent Cleaning | T | X | X | X | X
Polymer & Resins 1 | U | X | X | X | X
Polymer & Resins 2 | W | X | X | X | X
Secondary Lead Smelters | X | X | X | X | X
Marine Tank Vessel Loading | Y | X | X | X | X
Phosphoric Acid Mfg | AA | X | X | X | X
Phosphate Fertilizers Prod | BB | X | X | X | X
Petroleum Refineries | CC | X | X | X | X
Offsite Waste & Recovery | DD | X | X | X | X
Tanks; Level 1 | OO | X | X | X | X
Containers | PP | X | X | X | X
Surface Impoundments | QQ | X | X | X | X
Drain Systems | RR | X | X | X | X
Oil-Water Separators | VV | X | X | X | X
Magnetic Tape | EE | X | X | X | X
Aerospace Industry | GG | X | X | X | X
Oil & Natural Gas Prod | HH | X | X | X | X
| Area Source Requirements >>.
Shipbuilding and Repair | II | X | X | X | X
Wood Furniture Mfg | JJ | X | X | X | X
Printing & Publishing | KK | X | X | X | X
Primary Aluminum | LL | X | X | X | X
Pulp & Paper II (Combustion sources) | MM | X | X | X | X
Generic MACT
Control Devices | SS | X | X | X | X
Eq. Leaks—Level 1 | TT | X | X | X | X
Eq. Leaks—Level 2 | UU | X | X | X | X
Tanks—Level 2 | WW | X | X | X | X
Generic MACT
Ethylene Mfg | XX & YY | X | X | X | X
Carbon Black | YY | X | X | X | X
Spandex Prod | YY | X | X | X | X
Cyanide Chemical Mfg | YY | X | X | X | X
Acetal Resins | YY | X | X | X | X
Acrylic/Modacrylic Fibers | YY | X | X | X | X
Hydrogen Fluoride Prod | YY | X | X | X | X
Polycarbonates Prod | YY | X | X | X | X
Steel Pickeling | CCC | X | X | X | X
Mineral Wool Prod | DDD | X | X | X | X
Hazardous Waste Combustion (Phase I) | EEE | X | X | X | X
Boilers that burn Haz. Waste (Phase II) | EEE | X | X | X | X
HCL Prod. Furnaces burning Haz. Waste (P II) | EEE | X | X | X | X
Pharmaceutical Prod | GGG | X | X | X | X
Nat. Gas Transmission & Storage | HHH | X | X | X | X
Flexible Polyurethane Foam Prod | III | X | X | X | X
Polymer & Resins 4 | JJJ | X | X | X | X
Portland Cement | LLL | X | X | X | X
Pesticide Active Ingredients | MMM | X | X | X | X
Wool Fiberglass | NNN | X | X | X | X
Polymer & Resins 3 (Amino & Phenolic) | OOO | X | X | X | X
Polyether Polyols Prod | PPP | X | X | X | X
Primary Copper | QQQ | X | X | X | X
Secondary Aluminum Prod | RRR | X | X | X | X
Primary Lead Smelting | TTT | X | X | X | X
Petro Refineries (FCC units) | UUU | X | X | X | X
POTW | VVV | X | X | X | X
Ferroalloys | XXX | X | X | X | X
Municipal Landfills | AAAA | X | X | X | X
Nutritional Yeast | CCCC | X | X | X | X
Plywood and Composite Wood Prod. (Partial Vacatur Oct. 07) | DDDD | X | X | X | X
Organic Liquids Distribution (non-gas) | EEEE | X | X | X | X
Misc. Organic NESHAP | FFFF | X | X | X | X
Vegetable Oil | GGGG | X | X | X | X
Wet Formed Fiberglass | HHHH | X | X | X | X
Auto & Light Duty Truck (coating) | IIII | X | X | X | X
Paper & Other Webs | JJJJ | X | X | X | X
Metal Can (coating) | KKKK | X | X | X | X
Misc. Metal Parts (coating) | MMMM | X | X | X | X
Large Appliances (coating) | NNNN | X | X | X | X
Printing, Coating, & Dyeing Fabrics | OOOO | X | X | X | X
Plastic Parts & Products (coating) | PPPP | X | X | X | X
Wood Building Products | QQQQ | X | X | X | X
Metal Furniture (coating) | RRRR | X | X | X | X
Metal Coil (coating) | SSSS | X | X | X | X
Leather Tanning & Finishing | TTTT | X | X | X | X
Cellulose Ethers Prod. Misc. Viscose Processes | UUUU | X | X | X | X
Boat Manufacturing | VVVV | X | X | X | X
Reinforced Plastic Composites | WWWW | X | X | X | X
Rubber Tire Mfg | XXXX | X | X | X | X
Stationary Combustion Turbines | YYYY | X | X | X | X
Reciprocating Int. Combustion Engines | ZZZZ | X | X | X | X
| Area Source Requirements >>.
Lime Manufacturing | AAAAA | X | X | X | X
Semiconductor Production | BBBBB | X | X | X | X
Coke Ovens: (Push/Quench/Battery/Stacks) | CCCCC | X | X | X | X
Industrial/Commercial/Institutional | DDDDD
Boilers & Process Heaters, VACATED on 7/30/07
Iron Foundries | EEEEE | X | X | X | X
Integrated Iron & Steel | FFFFF | X | X | X | X
Site Remediation | GGGGG | X | X | X | X
Misc. Coating Manufacturing | HHHHH | X | X | X | X
Mercury Cell Chlor-Alkali | IIIII | X | X | X | X
Brick & Structural Clay Products, VACATED on 6/18/07 | JJJJJ
Clay Ceramics Manufacturing, VACATED on 6/18/07 | KKKKK
Asphalt Roofing & Processing | LLLLL | X | X | X | X
Flex. Polyurethane Foam Fabrication | MMMMM | X | X | X | X
Hydrochloric Acid Prod/Fumed Silica | NNNNN | X | X | X | X
Engine & Rocket Test Facilities | PPPPP | X | X | X | X
Friction Materials Manufacturing | QQQQQ | X | X | X | X
Taconite Iron Ore | RRRRR | X | X | X | X
Refactories | SSSSS | X | X | X | X
Primary Magnesium | TTTTT | X | X | X | X
Area Source Rules
Hospital Sterilizers | WWWWW | X | X | X | X
Stainless and Nonstainless Steel Mfg Electric Arc Furnaces | YYYYY | X | X | X | X
Iron & Steel foundries | ZZZZZ | X | X | X | X
Gasoline Distribution—Bulk | BBBBBB | X | X | X | X
Gasoline Dispensing Facilities | CCCCCC | X | X | X | X
PVC & Copolymers Prod | DDDDDD | X | X | X | X
Primary Copper | EEEEEE | X | X | X | X
Secondary Copper Smelting | FFFFFF | X | X | X | X
Primary Nonferrous Metals | GGGGGG | X | X | X | X
Paint Stripping
Auto-Body Refinishing | HHHHHH | X | X | X | X
Plastic Parts & Prod. (coating)
Acrylic/Modacrylic Fibers Prod | LLLLLL | X | X | X | X
Carbon Black Prod | MMMMMM | X | X | X | X
Chemical Mfg. Chrom | NNNNNN | X | X | X | X
Flex. Polyurethane Foam Fab | OOOOOO | X | X | X | X
Flex. Polyurethane Foam Prod
Lead Acid Battery Mfg | PPPPPP | X | X | X | X
Wood Preserving | QQQQQQ | X | X | X | X
Clay Ceramics Mfg | RRRRRR | X | X | X | X
Glass Mfg | SSSSSS | X | X | X | X
Secondary Nonferrous Metals | TTTTTT | X | X | X | X
Plating and Polishing | WWWWWW | X | X | X | X
Industrial Mach. & Eq. Finishing | XXXXXX | X | X | X | X
Elect. & Electronics Eq. Finishing
Fabricated Metal Prod
Fabricated Plate Work (Boiler Shop)
Fabricated Structural Metal Mfg
Heating Eq. Mfg
Iron and Steel Forging
Primary Metals Prod. Mfg
Valves and Pipe Fittings Mfg
Ferroalloys Production | YYYYYY | X | X | X | X
Ferro/Silico Manganese
¹ State program approved on August 31, 2001. Delegation table last updated on February 23, 2009.
² Forsyth County Environmental Affairs Department.
³ Mecklenburg County Department of Environmental Protection.
⁴ Western North Carolina Regional Air Quality Agency.

* * * * *

(41) * * *

(i) The following table lists the specific part 63 standards that have been delegated unchanged to the South Carolina Department of Health and Environmental Control (SCDHEC) for all sources. The “X” symbol is used to indicate each subpart that has been delegated. The delegations are subject to all of the conditions and limitations set forth in Federal law, regulations, policy, guidance, and determinations. Some authorities cannot be delegated and are retained by EPA. These include certain General Provisions authorities and specific parts of some standards.

Part 63 Major & Area Source Rule Delegations—South Carolina ¹
| Source category | Subpart | SCDHEC
1 | HON | F, G, H, I | X
2 | Polyvinyl Chloride & Co-polymers VACATED on 5/11/05 | J
3 | Coke Ovens | L | X
4 | Dry Cleaners | M | X
5 | Chromium Electroplating | N | X
6 | EtO Commercial Sterilization | O | X
7 | Chromium Cooling Towers | Q | X
8 | Gasoline Distribution (stage 1) | R | X
9 | Pulp & Paper I | S | X
10 | Halogenated Solvent Cleaning | T | X
11 | Polymer & Resins 1 | U | X
12 | Polymer & Resins 2 | W | X
13 | Secondary Lead Smelters | X | X
14 | Marine Tank Vessel Loading | Y | X
15 | Phosphoric Acid Mfg | AA | X
16 | Phosphate Fertilizers Prod | BB | X
17 | Petroleum Refineries | CC | X
18 | Offsite Waste & Recovery | DD | X
| Tanks; Level 1 | OO | X
| Containers | PP | X
| Surface Impoundments | QQ | X
| Drain Systems | RR | X
| Oil-Water Separators | VV | X
19 | Magnetic Tape | EE | X
20 | Aerospace Industry | GG | X
21 | Oil & Natural Gas Prod | HH | X
| Area Source Requirements >>. |  | X
22 | Shipbuilding and Repair | I I | X
23 | Wood Furniture Mfg | J J | X
24 | Printing & Publishing | KK | X
25 | Primary Aluminum | LL | X
26 | Pulp & Paper II (Combustion sources) | MM | X
27 | Generic MACT:
| Control Devices | SS | X
| Eq. Leaks—Level 1 | TT | X
| Eq. Leaks—Level 2 | UU | X
| Tanks—Level 2 | WW | X
28 | Generic MACT:
| Ethylene Mfg | XX & YY | X
| Carbon Black | YY | X
| Spandex Prod | YY | X
| Cyanide Chemical Mfg | YY | X
| Acetal Resins | YY | X
| Acrylic/Modacrylic Fibers | YY | X
| Hydrogen Fluoride Prod | YY | X
| Polycarbonates Prod | YY | X
29 | Steel Pickeling | CCC | X
30 | Mineral Wool Prod | DDD | X
31 | Hazardous Waste Combustion (Phase I) | EEE | X
32 | Boilers that burn Haz. Waste (Phase II) | EEE | X
33 | HCL Prod. Furnaces burning Haz. Waste (P II) | EEE | X
34 | Pharmaceutical Prod | GGG | X
35 | Nat. Gas Transmission & Storage | HHH | X
36 | Flexible Polyurethane Foam Prod | I I I | X
37 | Polymer & Resins 4 | JJJ | X
38 | Portland Cement | LLL | X
39 | Pesticide Active Ingredients | MMM | X
40 | Wool Fiberglass | NNN | X
41 | Polymer & Resins 3 (Amino & Phenolic) | OOO | X
42 | Polyether Polyols Prod | PPP | X
43 | Primary Copper | QQQ | X
44 | Secondary Aluminum Prod | RRR | X
45 | Primary Lead Smelting | TTT | X
46 | Petro Refineries (FCC units) | UUU | X
47 | POTW | V V V | X
48 | Ferroalloys | X X X | X
49 | Municipal Landfills | AAAA | X
50 | Nutritional Yeast | CCCC | X
51 | Plywood and Composite Wood Prod. (Partial Vacatur Oct. 07) | DDDD | X
52 | Organic Liquids Distribution (non-gas) | EEEE | X
53 | Misc. Organic NESHAP | FFFF | X
54 | Vegetable Oil | GGGG | X
55 | Wet Formed Fiberglass | HHHH | X
56 | Auto & Light Duty Truck (coating) | I I I I | X
57 | Paper & Other Webs | JJJJ | X
58 | Metal Can (coating) | KKKK | X
59 | Misc. Metal Parts (coating) | MMMM | X
60 | Large Appliances (coating) | NNNN | X
61 | Printing, Coating, & Dyeing Fabrics | OOOO | X
62 | Plastic Parts & Products (coating) | PPPP | X
63 | Wood Building Products | QQQQ | X
64 | Metal Furniture (coating) | RRRR | X
65 | Metal Coil (coating) | SSSS | X
66 | Leather Tanning & Finishing | TTTT | X
67 | Cellulose Ethers Prod Misc. Viscose Processes | UUUU | X
68 | Boat Manufacturing | VVVV | X
69 | Reinforced Plastic Composites | WWWW | X
70 | Rubber Tire Mfg | XXXX | X
71 | Stationary Combustion Turbines | YYYY | X
72 | Reciprocating Int. Combustion Engines | ZZZZ | X
| Area Source Requirements >>. |  | X
73 | Lime Manufacturing | AAAAA | X
74 | Semiconductor Production | BBBBB | X
75 | Coke Ovens: (Push/Quench/Battery/Stacks) | CCCCC | X
76 | Industrial/Commercial/Institutional Boilers & Process Heaters, VACATED on 7/30/07 | DDDDD
77 | Iron Foundries | EEEEE | X
78 | Integrated Iron & Steel | FFFFF | X
79 | Site Remediation | GGGGG | X
80 | Misc. Coating Manufacturing | HHHHH | X
81 | Mercury Cell Chlor-Alkali | IIIII | X
82 | Brick & Structural Clay Products, VACATED on 6/18/07 | JJJJJ
83 | Clay Ceramics Manufacturing, VACATED on 6/18/07 | KKKKK
84 | Asphalt Roofing & Processing | LLLLL | X
85 | Flex. Polyurethane Foam Fabrication | MMMMM | X
86 | Hydrochloric Acid Prod/Fumed Silica | NNNNN | X
87 | Engine & Rocket Test Facilities | PPPPP | X
88 | Friction Materials Manufacturing | QQQQQ | X
89 | Taconite Iron Ore | RRRRR | X
90 | Refactories | SSSSS | X
91 | Primary Magnesium | TTTTT | X
Area Source Rules
92 | Hospital Sterilizers | WWWWW | X
93 | Stainless and Nonstainless Steel Mfg Electric Arc Furnaces | YYYYY | X
94 | Iron & Steel foundries | ZZZZZ | X
95 | Gasoline Distribution—Bulk | BBBBBB | X
96 | Gasoline Dispensing Facilities | CCCCCC | X
97 | PVC & Copolymers Prod | DDDDDD | X
98 | Primary Copper | EEEEEE | X
99 | Secondary Copper Smelting | FFFFFF | X
100 | Primary Nonferrous Metals | GGGGGG | X
101 | Paint Stripping | HHHHHH | X
| Auto-Body Refinishing
| Plastic Parts & Prod. (coating)
102 | Acrylic/Modacrylic Fibers Prod | LLLLLL | X
103 | Carbon Black Prod | MMMMMM | X
104 | Chemical Mfg. Chrom | NNNNNN | X
105 | Flex. Polyurethane Foam Fab | OOOOOO | X
| Flex. Polyurethane Foam Prod
106 | Lead Acid Battery Mfg | PPPPPP | X
107 | Wood Preserving | QQQQQQ | X
108 | Clay Ceramics Mfg | RRRRRR | X
109 | Glass Mfg | SSSSSS | X
110 | Secondary Nonferrous Metals | TTTTTT | X
110 | Plating and Polishing | WWWWWW | X
112 | Heating Eq. Mfg | XXXXXX | X
| Industrial Mach. & Eq. Finishing
| Elect. & Electronics Eq. Finishing
| Fabricated Metal Prod
| Fabricated Plate Work (Boiler Shop)
| Fabricated Structural Metal Mfg
113 | Ferro/Silico Manganese | YYYYYY | X
| Iron and Steel Forging
| Primary Metals Prod. Mfg
| Valves and Pipe Fittings Mfg
| Ferroalloys Production
¹ State program approved on June 26, 1995. Delegation table last updated on February 23, 2009.

* * * * *

[FR Doc. E9-10154 Filed 5-12-09; 8:45 am]

BILLING CODE 6560-50-P